NATIONAL SCIENCE FOUNDATION

Agency Information Collection Activities: Comment Request; Evaluation of the Sustainability and Diffusion of the NSF ADVANCE Program

AGENCY: National Science Foundation.

ACTION: Submission for OMB review; comment request.

SUMMARY: The National Science Foundation (NSF) has submitted the following information collection requirement to OMB for review and clearance under the Paperwork Reduction Act of 1995. This is the second notice for public comment; the first was published in the Federal Register, and no comments were received. NSF is forwarding the proposed submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays).

Copies of the submission may be obtained by calling 703-292-7556.

SUPPLEMENTARY INFORMATION: NSF may not conduct or sponsor a collection of information unless the collection of information displays a currently valid OMB control number and the agency informs potential persons who are to respond to the collection of information that such persons are not required to respond to the collection of information unless it displays a currently valid OMB control number.

Title of Collection: Evaluation of the Sustainability and Diffusion of the NSF ADVANCE Program.

OMB Number: 3145-NEW.

Type of Request: Establishment of a new information collection.

Proposed Project: The ADVANCE Program, launched by the National Science Foundation in 2001, supports projects to identify and address structural and policy barriers to equity for STEM faculty. The proposed evaluation examines the sustainability and diffusion of ADVANCE strategies. The evaluation focuses on ADVANCE projects that started between 2001 and 2018, as well as proposals for the ADVANCE Institutional Transformation (IT) grants that were not funded. The data collection for this request includes: Six self-completion online surveys (with questions tailored to different types of ADVANCE grants); one self-completion online survey for ADVANCE Institutional Transformation applicants; and one instrument to conduct interviews with two representatives from six ADVANCE grantees.

Respondents: Respondents are representatives from ADVANCE grantees and applicants of ADVANCE Institutional Transformation grants.

Estimated Number of Annual Respondents: 360 individuals.

Burden on the Public: 207.5 hours.

Data collection type | Number of individuals | Participation time (in minutes) | Burden (in annual hours)
Single Institution Organizational Change Ended Survey | 75 | 45 | 56.25
Single Institution Organizational Change Ongoing Survey | 17 | 30 | 8.5
Partnership Ended Survey | 29 | 30 | 14.5
Single Institution Self-Assessment Ended Survey (version A) | 17 | 30 | 8.5
Single Institution Self-Assessment Ended Survey (version B) | 20 | 30 | 10
General ADVANCE Ended Survey | 53 | 30 | 26.5
General ADVANCE Ongoing Survey | 13 | 30 | 6.5
Single Institution Organizational Change Ended Survey and Partnership Ended Survey | 2 | 75 | 2.5
General ADVANCE Ended Survey and Single Institution Self-Assessment Ended Survey (version A) | 1 | 60 | 1
Single Institution Organizational Change Ended Survey and Single Institution Self-Assessment Ended Survey (version A) | 1 | 75 | 1.25
Institutional Transformation Applicant Survey | 120 | 30 | 60
Teleconference interviews with representatives of ADVANCE awards | 12 | 60 | 12
Total | 360 |  | 207.50

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

Dated: June 15, 2020.
Suzanne H. Plimpton,
Reports Clearance Officer, National Science Foundation.

[FR Doc. 2020-13167 Filed 6-17-20; 8:45 am]

BILLING CODE 7555-01-P